DEPARTMENT OF THE INTERIOR

National Park Service

[NPS-WASO-NAGPRA-15673; PPWOCRADN0-PCU00RP14.R50000]

Notice of Inventory Completion: U.S. Department of Defense, Army Corps of Engineers, Walla Walla District, Walla Walla, WA

AGENCY: National Park Service, Interior.

ACTION: Notice.

SUMMARY: The U.S. Department of Defense, Army Corps of Engineers (Corps), Walla Walla District has completed an inventory of human remains, in consultation with the appropriate Indian tribes or Native Hawaiian organizations, and has determined that there is a cultural affiliation between the human remains and present-day Indian tribes or Native Hawaiian organizations. Lineal descendants or representatives of any Indian tribe or Native Hawaiian organization not identified in this notice that wish to request transfer of control of these human remains should submit a written request to the Corps, Walla Walla District. If no additional requestors come forward, transfer of control of the human remains to the lineal descendants, Indian tribes, or Native Hawaiian organizations stated in this notice may proceed.

DATES: Lineal descendants or representatives of any Indian tribe or Native Hawaiian organization not identified in this notice that wish to request transfer of control of these human remains should submit a written request with information in support of the request to the Corps, Walla Walla District at the address in this notice by July 9, 2014.

ADDRESSES: LTC Andrew D. Kelly, U.S. Department of Defense, Army Corps of Engineers, Walla Walla District, 201 North Third Ave., Walla Walla, WA 99362, telephone (509) 527-7700.

SUPPLEMENTARY INFORMATION: Notice is here given in accordance with the Native American Graves Protection and Repatriation Act (NAGPRA), 25 U.S.C. 3003, of the completion of an inventory of human remains in the possession of the U.S. Department of Defense, Army Corps of Engineers (Corps), Walla Walla District, Walla Walla, WA. The human remains were removed from Benton County, WA.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the Corps and the University of Idaho (UI) professional staff in consultation with representatives of the Confederated Tribes and Bands of the Yakama Nation; Confederated Tribes of Colville Reservation; Confederated Tribes of the Umatilla Indian Reservation (previously listed as the Confederated Tribes of the Umatilla Reservation, Oregon); Nez Perce Tribe (previously listed as the Nez Perce Tribe of Idaho); and the Wanapum Band, a non-Federally recognized Indian group.

History and Description of the Remains

On April 13, 1962, human remains representing, at minimum, one individual were removed from Indian Island by U.S. Fish and Wildlife employees during a migratory bird count. The human remains were turned over to the Corps Pasco Maintenance Office on October 22, 2013. To date, no archeological sites on Indian Island have been documented. Indian Island was surveyed between 1998 and 1999 by archeologists from the Confederated Tribes of the Umatilla Indian Reservation and no archeological sites were recorded. Indian Island is located within the McNary Lock and Dam Project on the Columbia River, WA, which is managed by the Corps. The Corps initiated land acquisition processes for the McNary Lock and Dam Project in 1947, and Indian Island was acquired by the Corps from the Department of the Army on May 21, 1965. While the Corps did not own the parcel in question on the date of the collection of the human remains, as the parcel was owned by the Corps' parent agency, the Corps is proceeding with the repatriation of these remains.

The human remains were examined in December 2013 by Don Tyler (UI) and were identified as Native American. Distinctive morphological traits indicate that the human remains, comprised of a partial cranium, are from an adult Native American female. The individual was described as young and healthy, and about 18 to 20 years of age at the time of death. No known individuals were identified. No associated funerary objects are present. The estimated date range of the human remains is A.D. 1800-1850.

The relevant evidence supports a cultural affiliation between the human remains and the Confederated Tribes and Bands of the Yakama Nation; Confederated Tribes of Colville Reservation; Confederated Tribes of the Umatilla Indian Reservation (previously listed as the Confederated Tribes of the Umatilla Reservation, Oregon); and Nez Perce Tribe (previously listed as the Nez Perce Tribe of Idaho). Additionally, a cultural relationship is determined to exist between the human remains and the Wanapum Band, a non-Federally recognized Indian group. Information provided during consultation demonstrates that the consulting tribes are descended from the Native people who occupied Indian Island, and that the individuals buried along the Snake River and mid-Columbia River are their ancestors. The aforementioned tribes are all part of the more broadly defined Plateau cultural community, and have shared past and present traditional lifeways that bind them to common ancestors.

Determinations Made by the U.S. Department of Defense, Army Corps of Engineers, Walla Walla District

Officials of the U.S. Department of Defense, Army Corps of Engineers, Walla Walla District, have determined that:

• Pursuant to 25 U.S.C. 3001(9), the human remains described in this notice represent the physical remains of one individual of Native American ancestry.

• Pursuant to 25 U.S.C. 3001(2), there is a relationship of shared group identity that can be reasonably traced between the Native American human remains and the Confederated Tribes and Bands of the Yakama Nation; Confederated Tribes of Colville Reservation; Confederated Tribes of the Umatilla Indian Reservation (previously listed as the Confederated Tribes of the Umatilla Reservation, Oregon); and Nez Perce Tribe (previously listed as the Nez Perce Tribe of Idaho). Additionally, a cultural relationship is determined to exist between the human remains and the Wanapum Band, a non-Federally recognized Indian group.

Additional Requestors and Disposition

Lineal descendants or representatives of any Indian tribe or Native Hawaiian organization not identified in this notice that wish to request transfer of control of these human remains should submit a written request with information in support of the request to LTC Andrew D. Kelly, U.S. Department of Defense, Army Corps of Engineers, Walla Walla District, 201 North Third Ave., Walla Walla, WA 99362, telephone (509) 527-7700, by July 9, 2014. After that date, if no additional requestors have come forward, transfer of control of the human remains to the Confederated Tribes and Bands of the Yakama Nation; Confederated Tribes of Colville Reservation; Confederated Tribes of the Umatilla Indian Reservation (previously listed as the Confederated Tribes of the Umatilla Reservation, Oregon); Nez Perce Tribe (previously listed as the Nez Perce Tribe of Idaho); and, if joined to one or more of the culturally affiliated tribes, the Wanapum Band, a non-Federally recognized Indian group, may proceed.

The Corps, Walla Walla District, is responsible for notifying the Confederated Tribes and Bands of the Yakama Nation; Confederated Tribes of Colville Reservation; Confederated Tribes of the Umatilla Indian Reservation (previously listed as the Confederated Tribes of the Umatilla Reservation, Oregon); Nez Perce Tribe (previously listed as the Nez Perce Tribe of Idaho); and the Wanapum Band, a non-Federally recognized Indian group, that this notice has been published.

Dated: April 21, 2014.
David Tarler,
Acting Manager, National NAGPRA Program.

[FR Doc. 2014-13414 Filed 6-6-14; 8:45 am]

BILLING CODE 4312-50-P